DEPARTMENT OF THE TREASURY

Submission for OMB Review; Comment Request

December 28, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 7, 2001 to be assured of consideration.

Internal Revenue Service (IRS)

OMB Number: 1545-0016.

Form Number: IRS Form 706-A.

Type of Review: Extension.

Title: United States Additional Estate Tax Return.

Description: Form 706-A is used by individuals to compute and pay the additional estate taxes due under Code section 2032A(c). IRS uses the information to determine that the taxes have been properly computed. The form is also used for the basis election of section 1016(c)(1).

Respondents: Individuals or households.

Estimated Number of Respondents/Recordkeepers: 180.

Estimated Burden Hours per Respondent/Recordkeeper
Recordkeeping | 3 hr., 17 min.
Learning about the law or the form | 2 hr., 11 min.
Preparing the form | 1 hr., 40 min.
Copying, assembling, and sending the form to the IRS | 1 hr., 3 min.

Estimated Total Reporting/Recordkeeping Burden: 1,474 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 01-444 Filed 1-5-01; 8:45 am]

BILLING CODE 4830-01-U